DEPARTMENT OF LABOR

Employee Benefits Security Administration

Prohibited Transaction Exemption (PTE) 2005-09; Exemption Application No. D-11277; Liberty Media International, Inc. (LMI), Located in Englewood, CO

AGENCY: Employee Benefits Security Administration, U.S. Department of Labor (the Department).

ACTION: Notice of technical correction.

On June 29, 2005, the Department published PTE 2005-09 in the Federal Register at 70 FR 37443. On March 23, 2005, the Department published the notice of proposed exemption in the Federal Register at 70 FR 14726. PTE 2005-09 permits (1) the acquisition by the Liberty Media 401(k) Savings Plan—Puerto Rico (the Plan) of certain stock rights (the Rights) pursuant to a stock rights offering (the Offering) by LMI, the Plan sponsor and a party in interest with respect to the Plan; (2) the holding of the Rights by the Plan during the subscription period of the Offering; and (3) the disposition or exercise of the Rights by the Plan.

Due to a typographical error appearing in the operative language of the final exemption and the proposal, the Department is hereby revising these documents. In this regard, on page 37443 of the final exemption and on page 14726 of the proposed exemption, the reference to the Plan as the “Liberty Cablevision of Puerto Rico 401(k) Savings Plan” has been revised to read “Liberty Media 401(k) Savings Plan—Puerto Rico,” to reflect the correct Plan name.

FOR FURTHER INFORMATION CONTACT: Ms. Silvia M. Quezada of the Department, telephone number (202) 693-8553. (This is not a toll-free number.)

Signed in Washington, DC, this 11th day of July, 2005.
Ivan L. Strasfeld,
Director of Exemption, Determinations, Employee Benefits Security Administration, U.S. Department of Labor.

[FR Doc. 05-13995 Filed 7-14-05; 8:45 am]

BILLING CODE 4510-29-P